DEPARTMENT OF ENERGY

Federal Energy Regulatory Commission

[Docket No. RP03-13-001]

Transcontinental Gas Pipe Line Corporation; Notice of Compliance Filing

December 31, 2002.

Take notice that on December 27, 2002, Transcontinental Gas Pipe Line Corporation (Transco) tendered for filing as part of its FERC Gas Tariff, Third Revised Volume No. 1, Second Revised Fourth Revised Sheet No. 374O and First Revised Sheet No. 374O.00. The proposed effective date of the tariff sheets is February 1, 2003.

Transco states that the purpose of this filing is to comply with the Commission's “Order Accepting Tariff Filing and Requiring Compliance Filing” issued on November 27, 2002, in the referenced docket, in which the Commission directed Transco to refile, within 30 days, revised tariff sheets to modify its right of first refusal provisions.

Transco states that it will serve copies of the instant filing on its affected customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 6, 2003.

Linwood A. Watson, Jr.,
Deputy Secretary.

[FR Doc. 03-241 Filed 1-3-03; 8:45 am]

BILLING CODE 6717-01-P